DEPARTMENT OF COMMERCE

International Trade Administration

[C-570-089]

Certain Steel Racks and Parts Thereof From the People's Republic of China: Rescission of Countervailing Duty Administrative Review; 2021

AGENCY: Enforcement and Compliance, International Trade Administration, Department of Commerce.

SUMMARY: The U.S. Department of Commerce (Commerce) is rescinding the administrative review of the countervailing duty (CVD) order on certain steel racks and parts thereof (steel racks) from the People's Republic of China (China), covering the period of review (POR) January 1, 2021, through December 31, 2021, because, as explained below, there are no reviewable suspended entries for the sole company that is subject the instant review.

DATES: Applicable June 5, 2023.

FOR FURTHER INFORMATION CONTACT: Drew Jackson AD/CVD Operations, Office IV, Enforcement and Compliance, International Trade Administration, U.S. Department of Commerce, 1401 Constitution Avenue NW, Washington, DC 20230; telephone: (202) 482-4406.

SUPPLEMENTARY INFORMATION:

Background

On September 1, 2022, Commerce published in the Federal Register a notice of opportunity to request an administrative review of the CVD order on steel racks from China.¹ Commerce received a timely request for review of the steel racks CVD order from the following exporters of subject merchandise: (1) Nanjing Dongsheng Shelf Manufacturing Co., Ltd. (Dongsheng); (2) Nanjing Ironstone Storage Equipment Co., Ltd. (Nanjing Ironstone); (3) Xiamen Luckyroc Industry Co., Ltd. (Xiamen Luckyroc); and (4) Ningbo Xinguang Rack Co., Ltd. (Xinguang Rack).² We received no other requests for review. On November 3, 2022, Commerce published in the Federal Register a notice of initiation of an administrative review with respect to Dongsheng, Nanjing Ironstone, Xiamen Luckyroc, and Xinguang Rack, in accordance with section 751(a) of the Tariff Act of 1930, as amended (the Act).³ Between October 11, 2022, and January 20, 2023, Nanjing Ironstone, Dongsheng, and Xinguang Rack timely withdrew their requests for administrative review.⁴ On November 16, 2022, and December 13, 2022, Commerce placed U.S. Customs and Border Protection (CBP) entry data for U.S. imports of the subject merchandise during the POR on the record for respondent selection purposes.⁵ On April 4, 2023, Commerce notified all interested parties that in the absence of any suspended entries during the POR for Xiamen Luckyroc, which is the only remaining company subject to the instant administrative review, Commerce intended to rescind this review.⁶ Commerce provided all parties an opportunity to comment on CBP's findings.⁷ No parties submitted comments.

¹ See Antidumping or Countervailing Duty Order, Finding, or Suspended Investigation; Opportunity to Request Administrative Review and Join Annual Inquiry Service List, 87 FR 53719 (September 1, 2022).

² See Dongsheng's Letter, “Request for Administrative Review,” dated September 29, 2022; and Nanjing Ironstone, Xiamen Luckyroc, and Ningbo Xinguang's Letter, “Request for Administrative Review,” dated September 29, 2022.

³ See Initiation of Antidumping and Countervailing Duty Administrative Reviews, 87 FR 66275 (November 3, 2022).

⁴ See Nanjing Ironstone's Letter, “Ironstone Withdrawal of Request for Administrative Review,” dated October 11, 2022; Dongsheng's Letter, “Dongsheng Withdrawal of Request for Administrative Review,” dated January 18, 2023, and Xinguang Rack's Letter, “Xinguang Rack Withdrawal of Request for Administrative Review,” dated January 20, 2023.

⁵ See Memorandum, “Customs Data for Respondent Selection,” dated November 16, 2022; see also Memorandum, “Revised Customs Data for Respondent Selection,” dated December 13, 2022.

⁶ See Memorandum, “Notice of Intent to Rescind Review,” dated April 4, 2023.

⁷ Id.

Rescission of Review

Pursuant to 19 CFR 351.213(d)(3), it is Commerce's practice to rescind an administrative review of a CVD order where it concludes that there were no reviewable entries of subject merchandise during the POR.⁸ Normally, upon completion of an administrative review, the suspended entries are liquidated at the CVD assessment rate for the review period.⁹ Therefore, for an administrative review to be conducted, there must be a reviewable, suspended entry that Commerce can instruct CBP to liquidate at the calculated CVD assessment rate for the review period.¹⁰ As noted above, Nanjing Ironstone, Dongsheng, and Xinguang Rack timely withdrew their requests for administrative review and CBP confirmed that there were no entries of subject merchandise during the POR with respect to Xiamen Luckyroc, the only remaining company subject to this review. Accordingly, in the absence of reviewable, suspended entries of subject merchandise during the POR, we are rescinding this administrative review, in its entirety, in accordance with 19 CFR 351.213(d)(3).

⁸ See, e.g., Certain Hardwood Plywood Products from the People's Republic of China: Preliminary Results of Countervailing Duty Administrative Review and Rescission of Review, in Part; 2017-2018, 84 FR 54844, 54845 and n.8 (October 11, 2019) (citing Lightweight Thermal Paper from the People's Republic of China: Notice of Rescission of Countervailing Duty Administrative Review; 2015, 82 FR 14349 (March 20, 2017)).

⁹ See 19 CFR 351.212(b)(2).

¹⁰ See 19 CFR 351.213(d)(3).

Cash Deposit Requirements

As Commerce has proceeded to a final rescission of this administrative review, no cash deposit rates will change. Accordingly, the current cash deposit requirements shall remain in effect until further notice.

Assessment Rates

Commerce will instruct CBP to assess CVDs on all appropriate entries. Because Commerce is rescinding this review in its entirety, the entries to which this administrative review pertained shall be assessed at rates equal to the cash deposit of estimated countervailing duties required at the time of entry, or withdrawal from warehouse, for consumption, in accordance with 19 CFR 351.212(c)(1)(i). Commerce intends to issue appropriate assessment instructions to CBP 35 days after the publication of this notice in the Federal Register.

Notification Regarding Administrative Protective Order

This notice also serves as a final reminder to parties subject to administrative protective order (APO) of their responsibility concerning the return or destruction of proprietary information disclosed under APO in accordance with 19 CFR 351.305(a)(3), which continues to govern business proprietary information in this segment of the proceeding. Timely written notification of the return or destruction of the APO materials, or conversion to judicial protective order, is hereby requested. Failure to comply with regulations and terms of an APO is a violation, which is subject to sanction.

Notification to Interested Parties

This notice is issued and published in accordance with sections 751(a)(1) and 777(i)(1) of the Act, and 19 CFR 351.213(d)(4).

Dated: May 31, 2023.
James Maeder,
Deputy Assistant Secretary for Antidumping and Countervailing Duty Operations.

[FR Doc. 2023-11884 Filed 6-2-23; 8:45 am]

BILLING CODE 3510-DS-P